FEDERAL MARITIME COMMISSION

[Docket No. 22-35]

M.E. DEY & Co., Inc. Complainant v. Hapag-Lloyd (America) LLC, Respondent; Notice of Filing of Complaint and Assignment

Served: December 23, 2022. Notice is given that a complaint has been filed with the Federal Maritime Commission (Commission) by M.E. DEY & CO., INC hereinafter “Complainant,” against Hapag-Lloyd (America) LLC., (hereinafter “Respondent.”) Complainant states that it is a Wisconsin company and non-vessel-operating common carrier with a principal place of business in Wisconsin. Complaint identifies the Hapag-Lloyd (America) LLC is a global ocean carrier with an office located in Georgia.

Complainant alleges that Respondent violated 46 U.S.C. 41102(c) and 41104(a)(14) regarding its practices and the billing and payment of charges on the shipments of cargo, including demurrage and rail storage charges and the failure to provide chassis. An answer to the complaint is due to be filed with the Commission within twenty-five (25) days after the date of service. The full text of the complaint can be found in the Commission's Electronic Reading Room at https://www2.fmc.gov/readingroom/proceeding/22-35/.

This proceeding has been assigned to Office of Administrative Law Judges. The initial decision of the presiding officer in this proceeding shall be issued by December 26, 2023, and the final decision of the Commission shall be issued by July 10, 2024.

William Cody,
Secretary.

[FR Doc. 2022-28340 Filed 12-28-22; 8:45 am]

BILLING CODE 6730-02-P